U.S.-CHINA ECONOMIC AND SECURITY REVIEW COMMISSION

Notice of Open Meetings To Prepare and Release 2012 Annual Report to Congress

Advisory Committee: U.S.-China Economic and Security Review Commission.

ACTION: Notice of open meetings.

SUMMARY: Notice is hereby given of meetings of the U.S.-China Economic and Security Review Commission.

Name: Dennis C. Shea, Chairman of the U.S.-China Economic and Security Review Commission.

The Commission will meet in Washington, DC as follows: (1) Review-Edit 2012 Annual Report to Congress—August 1-2, September 12-13, October 11-12, and October 23-24, and (2) Official Public Release of Commission's Annual Report—November 14, 2012.

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions * * *”

Purpose of Meetings

Pursuant to this mandate, the Commission will meet in Washington, DC on August 1-2, September 12-13, October 11-12, and October 23-24, 2012 to consider drafts of material for its 2012 Annual Report to Congress that have been prepared for its consideration by the Commission staff, and to make modifications to those drafts that Commission members believe are needed; and release the final Annual Report to the public on November 14, 2012.

The report review-editing sessions are for members of the Commission to review and edit staff drafts of sections of the Commission's 2012 Annual Report for submission to Congress. The Commission is subject to the Federal Advisory Committee Act (FACA) with the enactment of the Science, State, Justice, Commerce and Related Agencies Appropriations Act, 2006 that was signed into law on November 22, 2005 (Pub. L. 109-108). In accord with FACA's requirement, meetings of the Commission to make decisions concerning the substance and recommendations of its 2012 Annual Report to Congress are open to the public.

Topics To Be Discussed

The Commissioners will be considering draft report sections addressing the following topics:

• The United States-China trade and economic relationship, including its bilateral investment and the role of state-owned enterprises, intellectual property protection and its 5-year plan, technology transfers, and outsourcing.

• China's activities directly affecting U.S. national security interests, including its area control military strategy, space developments, and intelligence activities and capabilities.

• China's foreign and regional activities and relationships, including those pertaining to Taiwan and Hong Kong.

• China's foreign and national security policies.

Dates and Times (Eastern Daylight Time)

• Wednesday, August 1, 2012 (10 a.m. to 5 p.m.)

• Thursday, August 2, 2012 (9 a.m. to 5 p.m.)

• Wednesday and Thursday, September 12-13, 2012 (9 a.m. to 5 p.m.)

• Thursday and Friday, October 11-12, 2012 (9 a.m. to 5 p.m.)

• Tuesday and Wednesday, October 23-24, 2012 (9 a.m. to 5 p.m.)

• Wednesday, November 14, 2012—Official Press Conference to Release Final Report to the Public—Date, Time and Location will be announced in October on the Commission's Web site at www.uscc.gov.

ADDRESSES: All report review-editing sessions will be held in The Hall of the States (North Bldg.) in Conference Room 231 (2nd floor) located at 444 North Capitol Street NW., Washington, DC 20001. The location for the Official Press Conference to release the final Annual Report to the public will be announced on the Commission's Web site at www.uscc.gov in October 2012.

Public seating is limited and will be available on a “first-come, first-served” basis. Advanced reservations are not required. All participants must register at the front desk of the lobby.

Required Accessibility Statement

The entirety of these Commission editorial and drafting meetings will be open to the public. The Commission may recess the public editorial/drafting sessions to address administrative issues in closed session.

The open meetings will also be adjourned in the noon vicinity for a lunch break. At the beginning of the lunch break, the Chairman will announce the reconvening time for the Annual Report review and editing session so members of the public will know when they may return if they wish to do so.

FOR FURTHER INFORMATION CONTACT: Gavin Williams, USCC Staff Assistant, U.S.-China Economic and Security Review Commission, 444 North Capitol Street NW., Suite 602, Washington, DC 20001; Phone: (202) 624-1407; Email: gwilliams@uscc.gov.

Authority

Congress created the U.S.-China Economic and Security Review Commission in 2000 in the National Defense Authorization Act (Pub. L. 106-398), as amended by Division P of the Consolidated Appropriations Resolution, 2003 (Pub. L. 108-7), as amended by Public Law 109-108 (November 22, 2005).

Dated: July 17, 2012.
Michael Danis,
Executive Director, U.S.-China Economic and Security Review Commission.

[FR Doc. 2012-18138 Filed 7-24-12; 8:45 am]

BILLING CODE 1137-00-P